DEPARTMENT OF COMMERCE

National Oceanic and Atmospheric Administration

[RTID 0648-XD978]

Takes of Marine Mammals Incidental to Specified Activities; Taking Marine Mammals Incidental to Site Characterization Surveys Offshore From Massachusetts to New Jersey for Vineyard Northeast, LLC

AGENCY: National Marine Fisheries Service (NMFS), National Oceanic and Atmospheric Administration (NOAA), Commerce.

ACTION: Notice; request for comments on proposed renewal incidental harassment authorization (IHA).

SUMMARY: NMFS received a request from Vineyard Northeast, LLC (Vineyard Northeast) for the renewal of their currently active incidental harassment authorization (IHA) (hereafter, the “Project”) to take marine mammals incidental to marine site characterization surveys offshore from Massachusetts to New Jersey in the Bureau of Ocean Energy Management (BOEM) Commercial Lease of Submerged Lands for Renewable Energy Development on the Outer Continental Shelf Lease Areas OCS-A 0522 and OCS-A 0544 (Lease Areas) and associated offshore export cable corridor (OECC) routes. The proposed action is a subset of the survey efforts that were previously authorized but were not yet completed under the currently active IHA, which will soon expire. Pursuant to the Marine Mammal Protection Act, prior to issuing the currently active IHA, NMFS requested comments on both the proposed IHA and the potential for renewing the initial authorization if certain requirements were satisfied. The renewal requirements have been satisfied, and NMFS is now providing an additional 15-day public comment period to allow for any additional comments on the proposed renewal not previously provided during the initial 30-day comment period.

DATES: Comments and information must be received no later than July 3, 2024.

ADDRESSES: Comments should be addressed to Jolie Harrison, Chief, Permits and Conservation Division, Office of Protected Resources, National Marine Fisheries Service and should be submitted via email to ITP.Taylor@noaa.gov.

Instructions: NMFS is not responsible for comments sent by any other method, to any other address or individual, or received after the end of the comment period. Comments, including all attachments, must not exceed a 25-megabyte file size. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Jessica Taylor, Office of Protected Resources, NMFS, (301) 427-8401. Electronic copies of the original application and supporting documents (including NMFS Federal Register notices of the original proposed and final authorizations, and the previous IHA), as well as a list of the references cited in this document, may be obtained online at: https://www.fisheries.noaa.gov/national/marine-mammal-protection/incidental-take-authorizations-other-energy-activities-renewable. In case of problems accessing these documents, please call the contact listed above.

SUPPLEMENTARY INFORMATION:

Background

The Marine Mammal Protection Act (MMPA) prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). Monitoring and reporting of such takings are also required. The meaning of key terms such as “take,” “harassment,” and “negligible impact” can be found in section 3 of the MMPA (16 U.S.C. 1362) and the agency's regulations at 50 CFR 216.103.

NMFS' regulations implementing the MMPA at 50 CFR 216.107(e) indicate that IHAs may be renewed for additional periods of time not to exceed 1 year for each reauthorization. In the notice of proposed IHA for the initial IHA, NMFS described the circumstances under which we would consider issuing a renewal for this activity, and requested public comment on a potential renewal under those circumstances. Specifically, on a case-by-case basis, NMFS may issue a 1-time 1-year renewal IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA).

2. The request for renewal must include the following:

• An explanation that the activities to be conducted under the requested renewal IHA are identical to the activities analyzed under the initial IHA, are a subset of the activities, or include changes so minor (e.g., reduced effort) that the changes do not affect the previous analyses, mitigation and monitoring requirements, or take estimates (with the exception of reducing the type or amount of take).

• A preliminary monitoring report showing the results of the required monitoring to date and an explanation showing that the monitoring results do not indicate impacts of a scale or nature not previously analyzed or authorized.

Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: www.fisheries.noaa.gov/national/marine-mammal-protection/incidental-harassment-authorization-renewals. Any comments received on the potential renewal, along with relevant comments on the initial IHA, have been considered in the development of this proposed IHA renewal, and a summary of agency responses to applicable comments is included in this notice. NMFS will consider any additional public comments prior to making any final decision on the issuance of the requested renewal, and agency responses will be summarized in the final notice of our decision.

National Environmental Policy Act

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has preliminarily determined that the application of this categorical exclusion remains appropriate for this renewal IHA.

History of Request

On July 27, 2022, NMFS issued an IHA (hereafter, referred to as the 2022 IHA) to Vineyard Northeast to take marine mammals incidental to marine site characterization surveys offshore from Massachusetts to New Jersey, in the BOEM Lease Areas OCS-A 0522 and OCS-A 0544 (Lease Areas) and potential OECC routes to landfall locations, effective from July 27, 2022 through July 26, 2023 (87 FR 52913, August 30, 2022). On April 23, 2023, NMFS received a request from Vineyard Northeast to issue an IHA to take marine mammals incidental to continued marine site characterization surveys offshore from Massachusetts to New Jersey, in the BOEM Lease Areas and potential OECC routes. Although the IHA renewal requirements were otherwise satisfied, NMFS determined that the availability of updated marine mammal density data (Roberts et al., 2023), upon which the take estimates were based, for all species in the Project Area warranted updated analysis and, therefore, the issuance of a new IHA (hereafter, referred to as the 2023 IHA) instead of a renewal IHA, as described in the Federal Register notice for the proposed 2023 IHA (88 FR 40212, June 21, 2023). The 2023 IHA, i.e. the initial IHA, which is here proposed for renewal, was issued to Vineyard Northeast with effective dates of July 27, 2023 through July 26, 2024 (88 FR 50117, August 1, 2023). Due to unanticipated delays, Vineyard Northeast will not be able to complete the surveys before the expiration date.

Accordingly, on April 29, 2024, NMFS received a request from Vineyard Northeast for the renewal of the 2023 IHA. The activities for which incidental take is requested consist of a subset of the identical activities covered in the 2023 IHA. As required, Vineyard Northeast also provided a preliminary monitoring report, which demonstrates that they have implemented the required marine mammal mitigation and monitoring and did not exceed the levels of take authorized under the previously issued IHA (88 FR 50117, August 1, 2023). These monitoring results are available to the public on our website: https://www.fisheries.noaa.gov/national/marine-mammal-protection/incidental-take-authorizations-other-energy-activities-renewable.

Description of the Proposed Specified Activity and Anticipated Impacts

Vineyard Northeast's 2023 IHA authorized take of marine mammals incidental to marine site characterization surveys, including high-resolution geophysical (HRG) surveys, offshore from Massachusetts to southern New Jersey, specifically within the BOEM Lease Areas OCS-A 0522 and OCS-A 0544, and along potential submarine OECCs. The purpose of these surveys are to obtain an assessment of seabed (geophysical, geotechnical, and geohazard), ecological, and archeological conditions within the footprint of the planned offshore wind facility development area. Surveys are also conducted to inform and support engineering design and to map unexploded ordnance. While actively surveying, the vessel operates at a maximum speed of 4 knots (4.6 miles per hour (mph) or 7.4 km per hour (km/h)). The Vineyard Northeast's 2023 IHA survey plan included 37,360 km of track line over 467 survey days. However, in 2023, Vineyard Northeast completed only 860 km of track line over 11 survey days, representing approximately 2 percent of the total planned survey effort.

Under the requested renewal IHA, Vineyard Northeast is proposing to continue to conduct survey activities over the remaining approximately 36,500 km of track line that was not completed in 2023. These surveys would be conducted over up to approximately 456 survey days using a maximum of 4 vessels operating concurrently within the Lease Areas and OECCs. A “survey day” is defined as a 24-hour (hr) activity period in which active HRG acoustic sources are used. This schedule is inclusive of any inclement weather downtime and crew transfers. The number of survey days is calculated as the number of days needed to reach the overall level of effort required to meet survey objectives assuming any single vessel covers, on average, 80 km (49.7 miles) of survey track line per 24 hours of operations.

The potential impacts of Vineyard Northeast's proposed activities on marine mammals could involve acoustic stressors and are unchanged from the impacts described in the Federal Register notice for the proposed 2023 IHA (88 FR 40212, June 21, 2023), which relies upon information in the notice of the proposed 2022 IHA (87 FR 30872, May 20, 2022). Underwater sound, resulting from Vineyard Northeast's activities, has the potential to result in incidental take of marine mammals, in the form of Level B harassment only, in the specified geographic region.

This proposed renewal IHA is for the remainder of work that will not be completed by the expiration date of the 2023 IHA. The renewal IHA would authorize incidental take, by Level B harassment only of 19 species (comprising 20 stocks) of marine mammals for a subset of marine site characterization survey activities to be completed in 1 year, in the same area, using survey methods identical to those conducted under the 2023 IHA. Neither Vineyard Northeast nor NMFS expect serious injury or mortality to result from this activity and, therefore, an IHA is appropriate. Take by Level A harassment (injury) is unlikely, even absent mitigation, based on the characteristics of the signals produced by the acoustic sources planned for use. Therefore, the anticipated effects on marine mammals and the affected stocks also remain the same. All mitigation, monitoring, and reporting measures would remain exactly as described in the Federal Register notice for the issued 2023 IHA (88 FR 50117, August 1, 2023) and the notice of the proposed 2022 IHA (87 FR 52913, August 30, 2022).

Detailed Description of the Proposed Action

A summary description of the marine site characterization survey activities for which incidental take is proposed here may be found in the Federal Register notice for the proposed 2023 IHA (88 FR 40212, June 21, 2023), which relies upon information in the notice of the proposed 2022 IHA (87 FR 30872, May 20, 2022). The specific geographic region and specified activities, including the types of survey equipment and number of survey vessels planned for use, are identical to those described in the previous notices, with the exception of the reduction in the size of the proposed survey area since a small subset of the survey work authorized under the 2022 IHA was completed. The proposed renewal would be effective for a period not exceeding 1 year from the date of expiration of the 2023 IHA.

Description of Marine Mammals

A description of the marine mammals in the proposed survey area may be found in the Federal Register notice for the proposed 2023 IHA (88 FR 40212, June 21, 2023), which relies upon information in the notice of the proposed 2022 IHA (87 FR 30872, May 20, 2022). After the 2023 IHA was issued, NMFS released its draft 2023 stock assessment reports (SARs). NMFS has reviewed the draft 2023 SARs, which included updates to certain stock abundances estimates, information on relevant unusual mortality events (UME), and other scientific literature. The draft 2023 SAR updated the population estimate (Nbest) of North Atlantic right whales from 338 to 340 and annual mortality and serious injury from 31.2 to 27.2. The updated population estimate in the draft 2023 SAR is based upon sighting history through December 2021 (89 FR 5495, January 29, 2024). Total annual average observed North Atlantic right whale mortality during the period 2017-2021 was 7.1 animals and annual average observed fishery mortality was 4.6 animals, however, estimates of 27.2 total mortality and 17.6 fishery mortality account for undetected mortality and serious injury (89 FR 5495, January 29, 2024). In October 2023, NMFS released a technical report identifying that the North Atlantic right whale population size based on sighting history through 2022 was 356 whales, with a 95 percent credible interval ranging from 346 to 363 (Linden, 2023). NMFS conservatively relies on the lower SAR abundance estimate. NMFS has determined that neither this nor any other new information affects which species or stocks have the potential to be affected or any other pertinent information in the Description of the Marine Mammals in the Area of Specified Activities contained in the supporting documents for the 2023 and 2022 IHAs.

On August 1, 2022, NMFS announced proposed changes to the existing North Atlantic right whale vessel speed regulations to further reduce the likelihood of mortalities and serious injuries to endangered North Atlantic right whales from vessel collisions, which are a leading cause of the species' decline and a primary factor in an ongoing UME (87 FR 46921, August 1, 2022). Should a final vessel speed rule be issued and become effective during the effective period of this proposed renewal IHA (or any other MMPA incidental take authorization), the authorization holder would be required to comply with any and all applicable requirements contained within the final rule. Specifically, where measures in any final vessel speed rule are more protective or restrictive than those in this or any other MMPA authorization, authorization holders would be required to comply with the requirements of the rule. Alternatively, where measures in this or any other MMPA authorization are more restrictive or protective than those in any final vessel speed rule, the measures in the MMPA authorization would remain in place. These changes would become effective immediately upon the effective date of any final vessel speed rule and would not require any further action on NMFS's part.

Potential Effects on Marine Mammals and Their Habitat

A description of the potential effects of the specified activity on marine mammals and their habitat for the activities for which an authorization of incidental take is proposed here may be found in the notice of the proposed IHA for the 2022 IHA (87 FR 30872, May 20, 2022), which is relied upon in the notice for the proposed 2023 IHA (88 FR 40212, June 21, 2023). NMFS has reviewed the monitoring data from the 2023 IHA, recent draft SARs, information on relevant UMEs, and other scientific literature, and determined that there is no new information that affects our initial analysis of impacts on marine mammals and their habitat.

Estimated Take

A detailed description of the methods used to estimate take for the specified activity are found in the notices of the proposed and final IHA for the 2022 IHA (87 FR 30872, May 20, 2022; 87 FR 52913, August 30, 2022) and summarized in the Notices of the proposed and final IHA for the 2023 IHA (88 FR 40212, June 21, 2023; 88 FR 50117, August 1, 2023). The methods of estimating take are identical to those used in the 2022 IHA and 2023 IHA (88 FR 40212, June 21, 2023). Specifically, the source levels, stocks taken, methods of take, and types of take remain unchanged from the 2022 IHA and 2023 IHA. In 2023, Vineyard Northeast updated the marine mammal densities based on new information (Roberts et al., 2016; Roberts et al., 2023), available online at: https://seamap.env.duke.edu/models/Duke/EC/. We refer the reader to table 8 in Vineyard Northeast's 2023 IHA request for the specific density values used in the analysis. The IHA request is available online at: https://www.fisheries.noaa.gov/action/incidental-take-authorization-vineyard-northeast-llcs-marine-site-characterization-survey. The marine mammal density/occurrence data applicable to this renewal authorization remains unchanged from the 2023 IHA. The number of takes proposed for authorization are a subset of the initial authorized takes that better represent the amount of the remaining activity Vineyard Northeast has left to complete. These estimated takes, which reflect the remaining survey days, are indicated below in table 1.

Table 1—Proposed Number of Takes by Level B Harassment by Species and Stock and Percent of Take by Stock
Species | Scientific name | Stock | Abundance | 2023 IHA authorized take | 2024 proposed renewal IHA: Take proposed for authorization ¹ | 2024 proposed renewal IHA: Max percent population
Blue whale | Balaenoptera musculus | Western North Atlantic | 402 | 1 | 1 | 0.25
North Atlantic right whale | Eubalaena glacialis | Western North Atlantic | 340 | 12 | 12 | 3.52
Humpback whale | Megaptera novaeangliae | Gulf of Maine | 1,396 | 12 | 12 | 0.86
Fin whale | Balaenoptera physalus | Western North Atlantic | 6,802 | 20 | 20 | 0.29
Sei whale | Balaenoptera borealis | Nova Scotia | 6,292 | 5 | 5 | 0.08
Minke whale | Balaenoptera acutorostrata | Canadian Eastern Coastal | 21,968 | 46 | 45 | 0.21
Sperm whale | Physeter macrocephalus | North Atlantic | 5,895 | 2 | 2 | 0.03
Long-finned pilot whale ¹ | Globicephala melas | Western North Atlantic | 39,215 | 17 | 17 | 0.04
Killer whale ² ³ | Orcinus orca | Western North Atlantic | UNK | 4 | 4 | ⁴ 5.97
False killer whale ² | Pseudorca crassidens | Western North Atlantic | 1,298 | 5 | 5 | 0.39
Atlantic spotted dolphin ³ | Stenella frontalis | Western North Atlantic | 31,506 | 29 | 29 | 0.09
Atlantic white-sided dolphin | Lagenorhynchus acutus | Western North Atlantic | 93,233 | 129 | 126 | 0.14
Bottlenose dolphin | Tursiops truncatus | Western North Atlantic Northern Migratory Coastal | 6,639 | 45 | 44 | 0.66
Western North Atlantic Offshore | 64,587 | 169 | 165 | 0.26
Common dolphin | Delphinus delphis | Western North Atlantic | 93,100 | 7,472 | 7,296 | 7.84
Risso's dolphin | Grampus griseus | Western North Atlantic | 44,067 | 9 | 9 | 0.02
White-beaked dolphin ² ³ | Lagenorhynchus albirostris | Western North Atlantic | 536,016 | 30 | 30 | 0.006
Harbor porpoise | Phocoena phocoena | Gulf of Maine/Bay of Fundy | 85,765 | 347 | 339 | 0.40
Harbor seal ⁵ | Phoca vitulina | Western North Atlantic | 61,336 | 939 | 917 | 1.49
Gray seal ⁵ | Halichoerus grypus | Western North Atlantic | ⁶ 27,911 | 418 | 408 | 0.09
¹ Roberts et al. (2023) only provides density estimates for pilot whales as a guild. Given the project's location, NMFS assumes that all take will be of long-finned pilot whales.
² Rare (or unlikely to occur) species.
³ Adjusted according to average group size (Kraus et al., 2016; Palka et al., 2017).
⁴ Based upon minimum population estimate of 67 individual killer whales identified in the Northwestern Atlantic Ocean (Lawson and Stevens, 2014).
⁵ Roberts et al. (2023) only provides a density estimate for seals as a guild. Vineyard Wind used Protected Species Observer (PSO) data collected during site characterization surveys within the survey area (2019, 2022-2024) to scale density-based exposure estimates for the seal guild for harbor and gray seals.
⁶ NMFS' stock abundance estimate (and associated PBR value) applies to U.S. population only. Total stock abundance (including animals in Canada) is approximately 451,600.

Description of Proposed Mitigation, Monitoring and Reporting Measures

The mitigation, monitoring, and reporting measures proposed here are identical to those included in the Federal Register notices announcing the issuance of the 2023 IHA (88 FR 50117, August 1, 2023) and the 2022 IHA (87 FR 52913, August 30, 2022). In addition, the discussion of the least practicable adverse impact included in those documents as well as the notice of the proposed IHAs for 2022 (87 FR 30872, May 20, 2022) and 2023 (88 FR 40212, August 1, 2023) remains accurate. NMFS proposes the following measures for this renewal IHA:

Establishment of Shutdown Zones—Marine mammal shutdown zones must be established around the HRG survey equipment and monitored by NMFS-approved PSOs during HRG surveys as follows:

• 500-meter (m) shutdown zone for North Atlantic right whales during use of specified acoustic sources (impulsive: sparkers and boomers; non-impulsive: non-parametric sub-bottom profilers); and

• 100-m shutdown zone for all other marine mammals (excluding North Atlantic right whales) during operation of the sparker and boomer. The only exception for this is for pinnipeds (seals) and small delphinids (i.e., those from the genera Delphinus, Lagenorhynchus, Stenella or Tursiops).

If a marine mammal is detected approaching or entering the shutdown zones during the HRG survey, the vessel operator would adhere to the shutdown procedures described below to minimize noise impacts on the animals. During use of acoustic sources with the potential to result in marine mammal harassment (sparkers, boomers, and non-parametric sub-bottom profilers; i.e., anytime the acoustic source is active, including ramp-up), occurrences of marine mammals outside the shutdown zones must be communicated to the vessel operator to prepare for potential shutdown of the acoustic source.

Visual Monitoring—Monitoring must be conducted by NMFS-approved PSOs with minimum qualifications described in the Federal Register notices 2023 Proposed and Final IHAs (88 FR 40212, June 21, 2023; 88 FR 50117, August 1, 2023). Vineyard Northeast must have one PSO on duty during the day and a minimum of two NMFS-approved PSOs must be on duty and conducting visual observations when HRG equipment is in use at night. Visual monitoring must begin no less than 30 minutes prior to ramp-up of HRG equipment and continue until 30 minutes after use of the acoustic source. PSOs must establish and monitor the applicable clearance zones, shutdown zones, and vessel separation distances as described in the 2022 IHA (87 FR 52913, August 30, 2022). PSOs must coordinate to ensure 360-degree visual coverage around the vessel from the most appropriate observation posts, and must conduct observations while free from distractions and in a consistent, systematic, and diligent manner. PSOs are required to estimate distances to observed marine mammals. It is the responsibility of the Lead PSO on duty to communicate the presence of marine mammals as well as to communicate action(s) that are necessary to ensure mitigation and monitoring requirements are implemented as appropriate.

Pre-Start Clearance—Marine mammal clearance zones must be established around the HRG survey equipment and monitored by NMFS-approved PSOs prior to use of boomers, sparkers, and non-parametric sub-bottom profilers as follows:

• 500-m clearance zone for all Endangered Species Act-listed species; and

• 100-m clearance zone for all other marine mammals.

Prior to initiating HRG survey activities, Vineyard Northeast must implement a 30-minute pre-start clearance period. The operator must notify a designated PSO of the planned start of ramp-up where the notification time should not be less than 60 minutes prior to the planned ramp-up to allow the PSOs to monitor the clearance zones for 30 minutes prior to the initiation of ramp-up. Prior to ramp-up beginning, Vineyard Northeast must receive confirmation from the PSO that the clearance zones are clear prior to preceding. Any PSO on duty has the authority to delay the start of survey operations if a marine mammal is detected within the applicable pre-start clearance zones.

During this 30-minute period, the entire clearance zone must be visible. The exception to this would be in situations where ramp-up must occur during periods of poor visibility (inclusive of nighttime) as long as appropriate visual monitoring has occurred with no detections of marine mammals in 30 minutes prior to the beginning of ramp-up.

If a marine mammal is observed within the relevant clearance zones during the pre-start clearance period, initiation of HRG survey equipment must not begin until the animal(s) has been observed exiting the respective clearance zone, or, until an additional period has elapsed with no further sighting (i.e., minimum 15 minutes for small odontocetes and seals; 30 minutes for all other species). The pre-start clearance requirement includes small delphinids. PSOs must also continue to monitor the zone for 30 minutes after survey equipment is shut down or survey activity has concluded.

Ramp-Up of Survey Equipment—When technically feasible, a ramp-up procedure must be used for geophysical survey equipment capable of adjusting energy levels at the start or re-start of survey activities. The ramp-up procedure must be used at the beginning of HRG survey activities in order to provide additional protection to marine mammals near the project area by allowing them to detect the presence of the survey and vacate the area prior to the commencement of survey equipment operation at full power. Ramp-up of the survey equipment must not begin until the relevant shutdown zones have been cleared by the PSOs, as described above. HRG equipment operators must ramp up acoustic sources to half power for 5 minutes and then proceed to full power. If any marine mammals are detected within the shutdown zones prior to or during ramp-up, the HRG equipment must be shut down (as described below).

Shutdown Procedures—If an HRG source is active and a marine mammal is observed within or entering a relevant shutdown zone (as described above), an immediate shutdown of the HRG survey equipment is required. When shutdown is called for by a PSO, the acoustic source must be immediately deactivated and any dispute resolved only following deactivation. Any PSO on duty has the authority to delay the start of survey operations or to call for shutdown of the acoustic source if a marine mammal is detected within the applicable shutdown zone. The vessel operator must establish and maintain clear lines of communication directly between PSOs on duty and crew controlling the HRG source(s) to ensure that shutdown commands are conveyed swiftly while allowing PSOs to maintain watch. Subsequent restart of the HRG equipment may only occur after the marine mammal has been observed exiting the relevant shutdown zone, or, until an additional period has elapsed with no further sighting of the animal within the relevant shutdown zone.

Upon implementation of shutdown, the HRG source may be reactivated after the marine mammal that triggered the shutdown has been observed exiting the applicable shutdown zone or, following a clearance period of 15 minutes for small odontocetes (i.e., harbor porpoise) and 30 minutes for all other species with no further observation of the marine mammal(s) within the relevant shutdown zone. If the HRG equipment is shut down for brief periods (i.e., less than 30 minutes) for reasons other than mitigation (e.g., mechanical or electronic failure) the equipment may be reactivated as soon as is practicable at full operational level, without 30 minutes of pre-clearance, only if PSOs have maintained constant visual observation during the shutdown and no visual detections of marine mammals occurred within the applicable shutdown zones during that time. For a shutdown of 30 minutes or longer, or if visual observation was not continued diligently during the pause, pre-clearance observation is required, as described above.

The shutdown requirement is waived for pinnipeds (seals) and certain genera of small delphinids (i.e., Delphinus, Lagenorhynchus, Stenella, or Tursiops) under certain circumstances. If a delphinid(s) from these genera is visually detected within the shutdown zone, shutdown would not be required. If there is uncertainty regarding identification of a marine mammal species (i.e., whether the observed marine mammal(s) belongs to one of the delphinid genera for which shutdown is waived), PSOs must use best professional judgment in making the decision to call for a shutdown.

If a species for which authorization has not been granted, or a species for which authorization has been granted but the authorized number of takes have been met, approaches or is observed within the area encompassing the Level B harassment isopleth (178 m), shutdown must occur.

Vessel Strike Avoidance—Vineyard Northeast must comply with vessel strike avoidance measures as summarized in the Federal Register notice for the 2023 IHA (88 FR 50117, August 1, 2023). For a detailed description of vessel strike avoidance measures, please see the Federal Register notice for the 2022 IHA (87 FR 52913, August 30, 2022). This includes speed restrictions (10 knots or less) when mother/calf pairs, pods, or large assemblages of cetaceans are spotted near a vessel; species-specific vessel separation distances; appropriate vessel actions when a marine mammal is sighted (e.g., avoid excessive speed, remain parallel to animal's course, etc.); and monitoring of the NMFS North Atlantic Right Whale reporting system and WhaleAlert daily.

Throughout all phases of the survey activities, Vineyard Northeast must monitor NOAA Fisheries North Atlantic right whale reporting systems for the establishment of a dynamic management area (DMA). If NMFS establishes a DMA in the surrounding area, including the project area or export cable routes being surveyed, Vineyard Northeast is required to abide by the 10-knot speed restriction.

Training—Project-specific training is required for all vessel crew prior to the start of survey activities.

Reporting—PSOs must record specific information as described in the Federal Register notice of the issuance of the 2023 IHA (88 FR 50117, August 1, 2023). Within 90 days after completion of survey activities, Vineyard Northeast must provide NMFS with a monitoring report, which must include summaries of recorded takes and estimates of the number of marine mammals that may have been harassed.

In the event of a ship strike or discovery of an injured or dead marine mammal, Vineyard Northeast must report the incident to the NMFS Office of Protected Resources (PR.ITP.MonitoringReports@noaa.gov) and to the NMFS Greater Atlantic Stranding Hotline (866-755-6622) as soon as feasible. The incident must also be reported to the NMFS Greater Atlantic Regional Fisheries Office (GARFO) (nmfs.gar.incidental-take@noaa.gov). The report must include the information listed in the Federal Register notice of the issuance of the 2022 IHA (87 FR 52913, August 30, 2022).

Comments and Responses

As noted previously, NMFS published a notice of the proposed 2023 IHA (88 FR 40212, June 21, 2023) and solicited public comments on both our proposal to issue the initial IHA for take incidental to marine site characterization surveys and on the potential for a renewal IHA, should certain requirements be met.

All public comments were addressed in the notice announcing the issuance of the 2023 IHA (88 FR 50117, August 1, 2023) and none of the comments specifically pertained to the renewal of the 2023 IHA.

Preliminary Determinations

Vineyard Northeast's HRG survey activities are a subset but otherwise unchanged from those analyzed in support of the 2023 IHA. The effects of the activity, taking into consideration the proposed mitigation and related monitoring measures, remain unchanged from those evaluated in support of the 2023 IHA. NMFS expects that all potential takes would be short-term Level B behavioral harassment in the form of temporary avoidance of the area or decreased foraging, reactions that are considered to be of low severity and with no lasting biological consequences (e.g., Southall et al., 2007). In addition to being temporary, the maximum harassment zone around a survey vessel is 178 m from use of the Applied Acoustics AA251 Boomer. Although this distance is assumed for all survey activity evaluated here and in estimating take numbers proposed for authorization, in reality, much of the survey activity would involve use of acoustic sources with a reduced acoustic harassment zone (4 m for the Edge Tech Chirp 216 or 141 m for the GeoMarine Geo Spark 2000), producing expected effects of particularly low severity. Therefore, the ensonified area surrounding each vessel is relatively small compared to the overall distribution of the animals in the area and the available habitat.

The proposed survey area overlaps or is in close proximity to feeding biologically important areas (BIA) for North Atlantic right whales (Cape Cod Bay and Massachusetts Bay BIA, February-April/Great South Channel and Georges Bank Shelf Break BIA, April-June), humpback whales (March-December), fin whales (year-round/March-October), sei whales (May-November), and minke whales (March-November), as well as overlaps the migratory BIA for North Atlantic right whales (November 1-April 30) (LaBrecque et al., 2015). Most of these feeding BIAs are extensive and sufficiently large (e.g., 3,149 km² and 12,247 km² for North Atlantic right whales; 47,701 km² for humpback whales; 18,015 km² and 2,933 km² for fin whales; 56,609 km² for sei whales; 54,341 for minke whales), and the acoustic footprint of the proposed survey is sufficiently small that feeding opportunities for these species would not be reduced appreciably. In addition, the proposed survey area also overlaps with the area south of Martha's Vineyard and Nantucket, primarily along the western side of Nantucket Shoals, which has been identified as year-round core North Atlantic right whale foraging habitat (Leiter et al., 2017; O'Brien et al., 2022; Quintana-Rizzo et al., 2021; Van Parijs et al., 2023). As prey species are mobile and broadly distributed throughout the survey area, marine mammals that are temporarily displaced during survey activities are expected to be able to resume foraging once they have moved away from areas with disturbing levels of underwater noise, thus we do not expect biologically significant impacts to feeding behavior. Due to the temporary nature of the disturbance, the availability of similar habitat and resources in the surrounding area, and required mitigation measures, the impacts to marine mammals and the food sources that they utilize are not expected to cause significant or long-term consequences for individual marine mammals or their populations. The impacts of these lower severity exposures are not expected to accrue to a degree that the fitness of any individuals would be impacted and, therefore, no impacts on the annual rates of recruitment or survival would result.

As previously discussed in the 2023 IHA (88 FR 50117, August 1, 2023), impacts from the survey are expected to be localized to the specific area of activity and only during periods when Vineyard Northeast's acoustic sources are active. There are no rookeries, mating or calving grounds known to be biologically important to marine mammals within the proposed survey area.

As noted for the 2023 IHA (88 FR 50117, August 1, 2023), the proposed survey area overlaps a migratory corridor BIA and migratory route SMAs (Port of New Jersey/New York and Block Island) for North Atlantic right whales. As the survey activities would be temporary and the spatial acoustic footprint produced by the survey would be very small relative to the spatial extent of the available migratory habitat in the BIA (269,448 km²), NMFS does not expect North Atlantic right whale migration to be impacted by the survey. Required vessel strike avoidance measures would also decrease risk of ship strike during migration; no ship strike is expected to occur during Vineyard Northeast's proposed activities. Vineyard Northeast would be required to comply with seasonal speed restrictions of these SMAs, and in any dynamic management area (DMA), should NMFS establish one (or more) in the proposed survey area. The 2022 IHA included the Cape Cod Bay SMA in the survey area, however, in 2023 the survey area was reduced and no longer overlapped with this SMA. The currently proposed survey also does not include the Cape Cod Bay SMA.

Although take by Level B harassment of North Atlantic right whales has been proposed for authorization by NMFS, we anticipate a very low level of harassment, should it occur, because Vineyard Northeast is required to maintain a shutdown zone of 500 m if a North Atlantic right whale is observed. The takes proposed for authorization account for any missed animals wherein the survey equipment is not shut down immediately. As shutdown would be called for immediately upon detection (if the whale is within 500 m), it is likely the exposure time would be very limited and received levels would not be much above the harassment threshold. Further, the 500-m shutdown zone for right whales is conservative, considering the distance to the Level B harassment isopleth for the most impactful acoustic source (i.e., Applied Acoustics AA251 Boomer—which may not be used on all survey days) is estimated to be 178 m, and thereby minimizes the potential for behavioral harassment of this species. As noted previously, Level A harassment is not expected due to the small permanent threshold shift zones associated with HRG equipment types proposed for use. NMFS does not anticipate North Atlantic right whale takes that would result from Vineyard Northeast's activities would impact annual rates of recruitment or survival. Thus, any takes that occur would not result in population level impacts.

We also note that our findings for other species with active UMEs that were previously described for the 2023 IHA (88 FR 50117, August 1, 2023) remain applicable to this project. In addition, our analysis of survey effects on species with BIAs that overlap with the proposed survey area remains unchanged. Therefore, in conclusion, there is no new information suggesting that our analysis or findings should change.

NMFS has preliminarily concluded that there is no new information suggesting that our analysis or findings should change from those reached for the 2023 IHA. This includes consideration of the slight increase in estimated abundance of 6 stocks and slight decrease in estimated abundance of 3 stocks. Based on the information contained here and in the referenced documents, NMFS has preliminarily determined the following: (1) the required mitigation measures would effect the least practicable impact on marine mammal species or stocks and their habitat; (2) the proposed authorized takes would have a negligible impact on the affected marine mammal species or stocks; (3) the proposed authorized takes represent small numbers of marine mammals relative to the affected stock abundances; (4) Vineyard Northeast's activities would not have an unmitigable adverse impact on taking for subsistence purposes as no relevant subsistence uses of marine mammals are implicated by this action, and (5) appropriate monitoring and reporting requirements are included.

Endangered Species Act

Section 7(a)(2) of the Endangered Species Act of 1973 (ESA; 16 U.S.C. 1531 et seq.) requires that each Federal agency insure that any action it authorizes, funds, or carries out is not likely to jeopardize the continued existence of any endangered or threatened species or result in the destruction or adverse modification of designated critical habitat. To ensure ESA compliance for the issuance of IHAs, NMFS OPR consults internally whenever we propose to authorize take for endangered or threatened species.

NMFS is proposing to authorize the incidental take of five species of marine mammals which are listed under the ESA, including the North Atlantic right, fin, sei, blue, and sperm whale, and has determined that this activity falls within the scope of activities analyzed in NMFS GARFO's programmatic consultation regarding geophysical surveys along the U.S. Atlantic coast in the three Atlantic Renewable Energy Regions (completed June 29, 2021; revised September 2021).

Proposed Renewal IHA and Request for Public Comment

As a result of these preliminary determinations, NMFS proposes to issue a renewal IHA to Vineyard Northeast for conducting marine site characterization surveys offshore of Massachusetts to southern New Jersey from July 27, 2024 through July 26, 2025, provided the previously mentioned mitigation, monitoring, and reporting requirements are incorporated. A draft of the proposed IHA can be found at https://www.fisheries.noaa.gov/permit/incidental-take-authorizations-under-marine-mammal-protection-act. We request comment on our analyses, the proposed renewal IHA, and any other aspect of this notice. Please include with your comments any supporting data or literature citations to help inform our final decision on the request for MMPA authorization.

Dated: June 12, 2024.
Angela Somma,
Chief, Endangered Species Division, Office of Protected Resources, National Marine Fisheries Service.

[FR Doc. 2024-13328 Filed 6-17-24; 8:45 am]

BILLING CODE 3510-22-P